FEDERAL COMMUNICATIONS COMMISSION

47 CFR Part 0

[MD Docket No. 18-397; FCC 19-4]

Memorializing the Significance of the FCC's Chief Information Officer's Role

AGENCY: Federal Communications Commission.

ACTION: Final rule.

SUMMARY: In this document, the Federal Communications Commission (FCC or Commission) adopted a change to a rule to incorporate a statutory update to the authorities of the FCC's Chief Information Officer (CIO) into the FCC's organizational rules. The purpose of this rule change is to demonstrate the FCC's commitment to ensuring that the FCC's CIO has a significant role in advancing the Commission's overall information technology capabilities.

DATES: Effective February 26, 2019.

FOR FURTHER INFORMATION CONTACT: For additional information, contact Daniel Daly, Daniel.Daly@fcc.gov, of the FCC's Office of the Managing Director, (202) 418-1832.

SUPPLEMENTARY INFORMATION: This is a summary of the Commission's Order, FCC 19-4, adopted January 29, 2019 and released on January 30, 2019. The full text of this document is available electronically via the FCC's Electronic Document Management System (EDOCS) website at http://www.fcc.gov/edocs_public/ or via the FCC's Electronic Comment Filing System (ECFS) website at https://www.fcc.gov/ecfs/. (Documents will be available electronically in ASCII, Microsoft Word, and/or Adobe Acrobat.) This document is also available for public inspection and copying during regular business hours in the FCC Reference Information Center, which is located in Room CY-A257 at FCC Headquarters, 445 12th Street SW, Washington, DC 20554. The Reference Information Center is open to the public Monday through Thursday from 8:00 a.m. to 4:30 p.m. and Friday from 8:00 a.m. to 11:30 a.m.

Synopsis

Section 502 of the Repack Airwaves Yielding Better Access for Users of Modern Services Act of 2018 (RAY BAUM'S Act), Division P of Public Law 115-141, provides the Commission's CIO with enhanced responsibilities. The purpose of this Order is to amend 47 CFR 0.11 of the Commission's organizational rules to reflect the specific CIO functions included in the RAY BAUM'S Act. Section 0.11 relates to the functions of the FCC's Office of the Managing Director. The text of the language that is being added to 47 CFR 0.11 is the same as the language in Section 502 of the RAY BAUM'S Act. Section 502 is codified at 47 U.S.C. 155a. This update to the Commission's organizational rules is not required by law. However, this update demonstrates the FCC's commitment to ensuring that the CIO has a significant role in advancing the Commission's overall information technology capabilities.

Paperwork Reduction Act

This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

Congressional Review Act

The Commission will not send a copy of this Order to Congress and the Government Accountability Office pursuant to the Congressional Review Act, see 5 U.S.C. 801(a)(1)(A), because the adopted rules are rules of agency organization, procedure, or practice that do not “substantially affect the rights or obligations of non-agency parties.”

List of Subjects in 47 CFR Part 0

Authority delegations (Government agencies), Organization and functions (Government agencies).

Federal Communications Commission.
Katura Jackson,
Federal Register Liaison Officer, Office of the Secretary.

Final Rules

For the reasons discussed in the preamble, the Federal Communications Commission amends 47 CFR part 0 as follows:

PART 0—COMMISSION ORGANIZATION

1. The authority citation for part 0 continues to read as follows:

Authority: Sec. 5, 48 Stat. 1068, as amended; 47 U.S.C. 155, 225, unless otherwise noted.

2. Section 0.11 is amended by adding paragraph (c) to read as follows:

§ 0.11 Functions of the Office.

* * * * *

(c) The Chief Information Officer shall have a significant role in: The decision-making process for annual and multi-year planning, programming, budgeting, and execution decisions, related reporting requirements, and reports related to information technology; the management, governance, and oversight processes related to information technology; and the hiring of personnel with information technology responsibilities. The Chief Information Officer, in consultation with the Chief Financial Officer and budget officials, shall specify and approve the allocation of amounts appropriated to the Commission for information technology, consistent with the provisions of appropriations Acts, budget guidelines, and recommendations from the Director of the Office of Management and Budget.

* * * * *

[FR Doc. 2019-03277 Filed 2-25-19; 8:45 am]

BILLING CODE 6712-01-P